FEDERAL RETIREMENT THRIFT INVESTMENT BOARD

Sunshine Act Meeting

TIME AND DATE: 9 a.m. (e.s.t.), November 15, 2004.

PLACE: SI International, 12012 Sunset Hills Road, Suite 800, Reston, VA 20190.

STATUS: Parts will be open to the public and parts closed to the public.

Matters to be Considered:

Parts Open to the Public

1. Approval of the minutes of the October 18, 2004, Board member meeting.

2. Thrift Savings Plan activity report by the Executive Director.

Parts Closed to the Public

3. Procurement.

4. Personnel matters.

Contact Person for More Information: Thomas J. Trabucco, Director, Office of External Affairs, (202) 942-1640.

Dated: November 5, 2004.
Elizabeth S. Woodruff,
Secretary to the Board, Federal Retirement Thrift Investment Board.

[FR Doc. 04-25139 Filed 11-5-04; 3:54 pm]

BILLING CODE 6760-01-P